DEPARTMENT OF TRANSPORTATION

Federal Aviation Administration

14 CFR Part 39

[Docket No. 2003-NE-38-AD; Amendment 39-13736; AD 2004-15-02]

RIN 2120-AA64

Airworthiness Directives; Rolls-Royce plc RB211 Trent 800 Series Turbofan Engines

Correction

In correction document C4-16548 appearing on page 49957 in the issue of Thursday, August 12, 2004, make the following correction:

§39.13 [Corrected]

On page 49957, in the second column, after § 39.13, after the third line, insert the following equation:

[FR Doc. C4-16548 Filed 8-13-04; 8:45 am]

BILLING CODE 1505-01-D